DEPARTMENT OF HEALTH AND HUMAN SERVICES

Centers for Disease Control and Prevention

[Docket Number 128]

Notice of Draft Document Available for Public Comment

AGENCY: National Institute for Occupational Safety and Health (NIOSH) of the Centers for Disease Control and Prevention (CDC), Department of Health and Human Services (HHS).

ACTION: Notice of Draft Document Available for Public Comment.

SUMMARY: The National Institute for Occupational Safety and Health (NIOSH) of the Centers for Disease Control and Prevention (CDC) announces the availability of the following draft document available for public comment entitled “Preventing Occupational Exposures to Lead and Noise at Indoor Firing Ranges.” The draft document and instructions for submitting comments can be found at http://www.cdc.gov/niosh/review/public/-128/. Comments should be provided to the NIOSH Docket Number above.

Public Comment Period: April 17, 2008 through June 30, 2008.

Status: Written comments may be submitted to the NIOSH Docket Office, Robert A. Taft Laboratories, 4676 Columbia Parkway, Mailstop C-34, Cincinnati, Ohio 45226. All material submitted to the Agency should reference NIOSH Docket number 128 and must be submitted by June 30, 2008, to be considered by the Agency. All electronic comments should be formatted as Microsoft Word.

All information received in response to this notice will be available for public examination and copying at the NIOSH Docket Office, Room 111, 4676 Columbia Parkway, Cincinnati, Ohio 45226. After the comment period has closed, comments may be accessed electronically at http://www.cdc.gov/NIOSH under the link to the NIOSH docket. As appropriate, NIOSH will post comments with the commenters' names, affiliations, and other information, on the Internet.

Background: This Alert is intended to address the concerns of Federal, State, and local law enforcement agencies about occupational exposures of their officers to lead and noise during firearms training and qualifications. The Alert describes the health effects that can occur from occupational exposures to lead and noise at indoor firing ranges and recommends steps that firing range operators, employers, and workers should take to minimize the health risk to workers and shooters.

This guidance document does not have the force and effect of law.

Contact Person for Technical Information:

Chucri (Chuck) A. Kardous, Commander, U.S. Public Health Service, Senior Research Engineer, Division of Applied Research and Technology, CDC/NIOSH, 4676 Columbia Parkway, C27, Cincinnati, Ohio 45225, Phone: 513-533-8146, E-mail: ckardous@cdc.gov.

Reference: Web address for this document: http://www.cdc.gov/niosh/review/public/128/.

James D. Seligman,
Chief Information Officer, Centers for Disease Control and Prevention.

[FR Doc. E8-8259 Filed 4-16-08; 8:45 am]

BILLING CODE 4163-19-P